NATIONAL CREDIT UNION ADMINISTRATION

Sunshine Act Meeting; Notice of Change in Subject of Meeting

The National Credit Union Administration Board determined that its business requires the addition of the following item to the previously announced open meeting (Federal Register, Vol. 66, No. 44, Page 13594, Tuesday, March 6, 2001) scheduled for Thursday, March 8, 2001.

4. Delegation of Authority Regarding Community Charter Applications.

The Board voted two-to-one, Board Member Wheat voting no, that agency business requires that this item be considered with less than the usual seven days notice, that it be open to the public, and that no earlier announcement of this change was possible.

The previously announced items were:

1. Request from a Federal Credit Union to Convert to a Community Charter.

2. Part 702—Prompt Corrective Action Risk Mitigation Credit Guidelines.

3. Notice of Proposed Rulemaking: Part 742 and Amendment to Part 722, NCUA's Rules and Regulations, Regulatory Flexibility Program.

4. Amendments to the Field of Membership and Chartering Manual Regarding Requirements for Community Charters.

5. National Credit Union Share Insurance Fund (NCUSIF) Dividend and Insurance Premium.

FOR FURTHER INFORMATION CONTACT: Becky Baker, Secretary of the Board, Telephone (703) 518-6304.

Becky Baker,
Secretary of the Board.

[FR Doc. 01-6081 Filed 3-7-01; 2:16 pm]

BILLING CODE 7535-01-M